ENVIRONMENTAL PROTECTION AGENCY

[FRL-7837-4]

Science Advisory Board Staff Office; Notification of a Meeting of the Science Advisory Board

AGENCY: Environmental Protection Agency (EPA).

ACTION: Notice.

SUMMARY: The EPA Science Advisory Board (SAB) Staff Office announces a meeting of the chartered SAB to hold discussions with EPA about the Agency's science program in preparation for its upcoming advisory about the EPA science and budget request for FY 2006.

DATES: A public face-to-face meeting of the SAB will be held from 1 p.m. to 5:30 p.m. on November 30, 2004.

ADDRESSES: The SAB meeting will be held at the Washington Terrace Hotel, 1515 Rhode Island Avenue, NW., Washington, DC 20005.

FOR FURTHER INFORMATION CONTACT: Any member of the public wishing further information concerning this meeting should contact Mr. Tom Miller, Designated Federal Officer, EPA Science Advisory Board Staff Office (1400F), U.S. Environmental Protection Agency, 1200 Pennsylvania Avenue, NW., Washington, DC 20460; telephone (202) 343-9982; Fax (202) 233-0643; or via e-mail at miller.tom@epa.gov. General information about the SAB as well as any updates concerning the meetings announced in this notice, may be found on the SAB Web site at http://www.epa.gov/sab.

SUPPLEMENTARY INFORMATION: Background: The SAB was established by 42 U.S.C. 4365 to provide independent scientific and technical advice, consultation, and recommendations to the EPA Administrator on the technical basis for Agency positions and regulations. The EPA has requested that the SAB consider and comment on the Agency's science programs and budget requests for FY 2006. The SAB will hold a series of discussions with EPA offices to gather relevant information and learn more about the Agency's science programs in preparation for its advisory at a face-to-face meeting to be scheduled in February, 2005.

The first meeting, to be held on November 30, 2004, will be fact-finding in nature. Subsequent fact-finding meetings associated with this advisory will be conducted by telephone conference. These meetings or telephone conferences will be announced in the Federal Register as time permits. Those meetings that are held without advance notice in the Federal Register will be announced on the SAB Web site at least 5 working days prior to each meeting. All SAB meetings or telephone conferences will be open to the public.

Procedures for Providing Public Comments: It is the policy of the EPA SAB to accept written public comments of any length, and to accommodate oral public comments whenever possible. The SAB Staff Office expects that public statements presented at the meeting will not be repetitive of previously submitted oral or written statements. Oral Comments: In general, each individual or group requesting an oral presentation at a face-to-face meeting will be limited to a total time of ten minutes (unless otherwise indicated). Interested parties should contact the DFO in writing (e-mail, fax or mail—see contact information above) by close of business November 26, 2004 in order to be placed on the public speaker list for the meeting. Speakers should bring at least 35 copies of their comments and presentation slides for distribution to the participants and public at the meeting. Written Comments: Although the SAB Staff Office accepts written comments until the date of the meeting (unless otherwise stated), written comments should be received in the SAB Staff Office at least seven business days prior to the meeting date so that the comments may be made available to the panel for their consideration. Comments should be supplied to the DFO at the address/contact information noted above in the following formats: one hard copy with original signature, and one electronic copy via e-mail (acceptable file format: Adobe Acrobat, WordPerfect, Word, or Rich Text files in IBM-PC/Windows 98/2000/XP format). Those providing written comments and who attend the meeting are also asked to bring 35 copies of their comments for public distribution.

Meeting Accommodations: Individuals requiring special accommodation to access the public meetings listed above should contact the DFO at least five business days prior to the meeting so that appropriate arrangements can be made.

Dated: November 4, 2004.
Vanessa T. Vu,
Director, EPA Science Advisory Board Staff Office.

[FR Doc. 04-25222 Filed 11-10-04; 8:45 am]

BILLING CODE 6560-50-P